DEPARTMENT OF LABOR

Office of the Secretary

Agency Information Collection Activities; Submission for OMB Review; Comment Request; Operations Mining Under a Body of Water

ACTION: Notice of availability; request for comments.

SUMMARY: The Department of Labor (DOL) is submitting the Mine Safety and Health Administration (MSHA) sponsored information collection request (ICR) titled, “Operations Mining Under a Body of Water,” to the Office of Management and Budget (OMB) for review and approval for continued use, without change, in accordance with the Paperwork Reduction Act of 1995 (PRA). Public comments on the ICR are invited.

DATES: The OMB will consider all written comments that agency receives on or before November 25, 2019.

ADDRESSES: A copy of this ICR with applicable supporting documentation; including a description of the likely respondents, proposed frequency of response, and estimated total burden may be obtained free of charge from the RegInfo.gov website at http://www.reginfo.gov/public/do/PRAViewICR?ref_nbr=201906-1219-001 (this link will only become active on the day following publication of this notice) or by contacting Frederick Licari by telephone at 202-693-8073, TTY 202-693-8064, (these are not toll-free numbers) or by email at DOL_PRA_PUBLIC@dol.gov.

Submit comments about this request by mail to the Office of Information and Regulatory Affairs, Attn: OMB Desk Officer for DOL-MSHA, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW, Washington, DC 20210; or by email: DOL_PRA_PUBLIC@dol.gov.

FOR FURTHER INFORMATION CONTACT: Frederick Licari by telephone at 202-693-8073, TTY 202-693-8064, (these are not toll-free numbers) or by email at DOL_PRA_PUBLIC@dol.gov.

SUPPLEMENTARY INFORMATION: This ICR seeks to extend PRA authority for the Operations Mining Under a Body of Water information collection. Section 103(h) of the Federal Mine Safety and Health Act of 1977 (Mine Act), 30 U.S.C. 813(h), authorizes MSHA to collect information necessary to carry out its duty in protecting the safety and health of miners. Further, section 101(a) of the Mine Act, 30 U.S.C. 811, authorizes the Secretary of Labor (Secretary) to develop, promulgate, and revise as may be appropriate, improved mandatory health or safety standards for the protection of life and prevention of injuries in coal and metal and nonmetal mines. Title 30 CFR Sections 75.1716, 75.1716-1 and 75.1716-3 require operators of underground coal mines to provide MSHA notification before mining under bodies of water and to obtain a permit to mine under a body of water if, in the judgment of the Secretary, it is sufficiently large to constitute a hazard to miners. The regulation is necessary to prevent the inundation of underground coal mines with water that has the potential of drowning miners. The coal mine operator submits an application for the permit to the District Manager in whose district the mine is located. Applications contain the name and address of the mine; projected mining and ground support plans; a mine map showing the location of the river, stream, lake or other body of water and its relation to the location of all working places; and a profile map showing the type of strata and the distance in elevation between the coal bed and the water involved. MSHA has provided an exemption from notification and permit application for mine operators where the projected mining is under any water reservoir constructed by a Federal agency as of December 30, 1969, and where the operator is required by such agency to operate in a manner that adequately protects the safety of miners. The exemption for such mining is addressed by 30 CFR Sections 75.1716 and 75.1717. MSHA also encourages a mine operator to provide more information in an application. When the operator files an application for a permit, in addition to the information required under 30 CFR Section 75.1716-3, operators are also encouraged to include a map of the active areas of the mine under the body of water showing the following: Bottom of coal elevations (minimum 10-ft contour intervals); the limits of the body of water and the estimated quantity of water in the pool; the limits of the proposed “safety zone” within which precautions will be taken; overburden thickness (depth of cover) contours; corehole locations; and known faults, lineaments, and other geologic features. If the body of water is contained within an overlying mine, then MSHA recommends a map of the overlying mine showing bottom of coal elevations (minimum 10-ft contour intervals), when available, corehole locations, the limits of the body of water with the estimated quantity of water in the pool, and interburden to active mine below be provided. Operators are also encouraged to submit the methods that were used to estimate the quantity of water in the pool, borehole logs, including geotechnical information (RQD, fracture logs, etc.) if available; rock mechanics data on the overburden, interburden, mine roof, and mine floor, if available; mining height of the seam being mined, pillar and floor stability analyses for the active mine, whether second mining is planned, whether mining will be conducted down-dip or up-dip, where water will flow to in the active mine if encountered, pumping capabilities for dewatering, a comprehensive evacuation plan for the miners, and a statement of what in-mine conditions would trigger the implementation of the evacuation plan, and training that will be provided to the miners regarding the potential hazards.

This information collection is subject to the PRA. A Federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid Control Number. See 5 CFR 1320.5(a) and 1320.6. The DOL obtains OMB approval for this information collection under Control Number 1219-0020.

OMB authorization for an ICR cannot be for more than three (3) years without renewal, and the current approval for this collection is scheduled to expire on October 31, 2019. The DOL seeks to extend PRA authorization for this information collection for three (3) more years, without any change to existing requirements. The DOL notes that existing information collection requirements submitted to the OMB receive a month-to-month extension while they undergo review. For additional substantive information about this ICR, see the related notice published in the Federal Register on August 21, 2019 (84 FR 43621).

Interested parties are encouraged to send comments to the OMB, Office of Information and Regulatory Affairs at the address shown in the ADDRESSES section within thirty (30) days of publication of this notice in the Federal Register. In order to help ensure appropriate consideration, comments should mention OMB Control Number 1219-0020. The OMB is particularly interested in comments that:

• Evaluate whether the proposed collection of information is necessary for the proper performance of the functions of the agency, including whether the information will have practical utility:

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-MSHA.

Title of Collection: Operations Mining Under a Body of Water.

OMB Control Number: 1219-0020.

Affected Public: Private Sector—Businesses or other for-profits.

Total Estimated Number of Respondents: 77.

Total Estimated Number of Responses: 77.

Total Estimated Annual Time Burden: 424 hours.

Total Estimated Annual Other Costs Burden: $1,040.

Authority: 44 U.S.C. 3507(a)(1)(D).

Dated: October 17, 2019.
Frederick Licari,
Departmental Clearance Officer.

[FR Doc. 2019-23299 Filed 10-24-19; 8:45 am]

BILLING CODE 4510-43-P